DEPARTMENT OF COMMERCE

Foreign-Trade Zones Board

[S-35-2019]

Approval of Subzone Status; Lexmark International, Inc., Longmont, Colorado

On March 7, 2019, the Executive Secretary of the Foreign-Trade Zones (FTZ) Board docketed an application submitted by the City and County of Denver, Colorado, grantee of FTZ 123, requesting subzone status subject to the existing activation limit of FTZ 123, on behalf of Lexmark International, Inc., in Longmont, Colorado.

The application was processed in accordance with the FTZ Act and Regulations, including notice in the Federal Register inviting public comment (84 FR 9084, March 13, 2019). The FTZ staff examiner reviewed the application and determined that it meets the criteria for approval. Pursuant to the authority delegated to the FTZ Board Executive Secretary (15 CFR Sec. 400.36(f)), the application to establish Subzone 123I was approved on April 23, 2019, subject to the FTZ Act and the Board's regulations, including Section 400.13, and further subject to FTZ 123's 858-acre activation limit.

Dated: April 24, 2019.
Andrew McGilvray,
Executive Secretary.

[FR Doc. 2019-08569 Filed 4-26-19; 8:45 am]

BILLING CODE 3510-DS-P